DEPARTMENT OF HOUSING AND URBAN DEVELOPMENT

[Docket No. FR-5828-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; NAVY: Mr. Steve Matteo, Department of the Navy, Asset Management; Division, Naval Facilities Engineering Command, Washington Navy Yard, 1330 Patterson Ave. SW., Suite 1000, Washington, DC 20374; (202) 685-9426; (These are not toll-free numbers).

Dated: May 7, 2015.
Brian P. Fitzmaurice,
Director, Division of Community Assistance, Office of Special Needs Assistance Programs.

Title V, Federal Surplus Property Program Federal Register Report for 05/15/2015

Suitable/Available Properties

Building

District of Columbia

49 L Street

49 L St. SE

Washington DC 20003

Landholding Agency: GSA

Property Number: 54201520003

Status: Excess

GSA Number: DC-496-1

Comments: 32,013 sq. ft.; storage; 67+ mons. vacant; poor condition; roof leaks; extensive structural repairs needed; cracks in walls; contamination; est. repair cost $4,000,000; contact GSA for more info.

Indiana

2 Buildings

2828 Madison Avenue

Anderson IN 64014

Landholding Agency: COE

Property Number: 31201520002

Status: Excess

Directions: 1LT Charles Waples U.S. Army Reserve Center; Admin Bldg. 11,525 sq. ft.; OMS 2,998 sq. ft.

Comments: off-site removal only; 59+ yrs. old; Army Reserve Center; fair condition; asbestos; contact COE for more information.

Montana

Jackson Residence, Bldg. #1016

1000 Warm Springs Road

Jackson MT 59736

Landholding Agency: Agriculture

Property Number: 15201520024

Status: Unutilized

Comments: 90+ yrs. old; 1,231 sq. ft.; 9+ mos. vacant; residential; extensive water damage & mold contamination throughout the interior; require demolition to remediation; contact Agric. for more information.

Residential Garage W/1032

Infra #1500

Ant Flat Road

Eureka MT 95501

Landholding Agency: Agriculture

Property Number: 15201520025

Status: Excess

Comments: off-site removal only; 61+ yrs. old; 491 sq. ft.; storage; contact Agriculture for more information.

2-Bedroom Family Dwelling

Infra #1032

Ant Flat Road

Eureka MT 95501

Landholding Agency: Agriculture

Property Number: 15201520026

Status: Excess

Comments: off-site removal; 64+ yrs. old; 1,004 sq. ft.; residential; 30+ mos. vacant; experience extensive flood; damage which caused significant mold damage; contact Agriculture for more information.

Wyoming

2 Buildings

Cheyenne Naval Reserve Center

4700 Ocean Loop Drive

Cheyenne WY 82009

Landholding Agency: GSA

Property Number: 54201520009

Status: Surplus

GSA Number: 7-G-WY-0542-AC

Directions: Previously reported under HUD property number 54200510015. The property was originally conveyed from the GSA to the Wyoming Coalition of Homeless as a PBC for homeless use. Grantee unable to continue to use the property for homeless purposes. The title reverted to the Government.

Comments: 36+yrs. old, building (11,858 sq. ft.); shed (613 sq. ft.); 12+ mos. vacant; contact GSA for more information.

Suitable/Unavailable Properties

Building

California

Southern Parcel-Alameda Fed Ct

620 Central Avenue

Alameda CA 94501

Landholding Agency: GSA

Property Number: 54201510008

Status: Unutilized

GSA Number: 9-G-CA-1604-AB

Directions: Building #7 (4,000 sq. ft.); Building #3 (5,000 sq.ft.); Correction: Published as Suitable/Available in the March 13, 2015 FR; however, there is existing Federal need. This property is Suitable/Unavailable until further notification is received by GSA.

Comments: 73+yrs.old; office; auditorium; wood; #7 fair condition; #3 leaky roof; sits on 3.899 acres; parking lot; term use up to 4 yrs.; contact GSA for more info.

Unsuitable Properties

Building

Alabama

3 Buildings

Marshall Space Flight Center

Marshall Space Flight AL 35812

Landholding Agency: NASA

Property Number: 71201520001

Status: Underutilized

Directions: 4679 Electrical Equipment Building; 4642 Center Activities; 4703 Storage Building

Comments: Public access denied and no alternative method to gain access without compromising National Security.

Reasons: Secured Area

Missouri

Table Rock Lake Project

40263 State Hwy 86

Barry County MO 62625

Landholding Agency: COE

Property Number: 31201520004

Status: Unutilized

Comments: Public access denied and no alternative method to gain access without compromising National Security.

Reasons: Secured Area

South Carolina

Building 216

1630 Avenue A South

N. Charleston SC 29405

Landholding Agency: Navy

Property Number: 77201520007

Status: Unutilized

Directions: Disposal Agency: Navy; Land Holding Agency: AF

Comments: Public access denied and no alternative method to gain access without compromising National Security.

Reasons: Secured Area

[FR Doc. 2015-11457 Filed 5-14-15; 8:45 am]

BILLING CODE 4210-67-P